DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Organ Procurement and Transplantation Network—New

The operation of the Organ Procurement and Transplantation Network (OPTN) necessitates certain record keeping and reporting requirements in order to perform the functions related to organ transplantation under contract to HHS. OMB requires review and approval of certain information collection requirements associated with the Final Rule that were not included in previous clearance requests. This is a request for approval of record keeping and reporting requirements associated with the processes for filing appeals in the case where applicants are rejected for membership or designation. To date, no appeals have been filed, and any forthcoming burden requirements for this process will be minimal. In the event of an appeal, the estimate of burden for this process consists of preparing a letter requesting reconsideration and compiling supporting documentation.

The estimated annual response burden is as follows:

Section | Number of respondents | Responses per respondent | Total responses | Burden hour per respondent | Total burden hour
42 CFR 121.3(b)(4) Appeal for OPTN membership | 2 | 1 | 2 | 3 | 6
42 CFR 121.9(d) Appeal for designation | 2 | 1 | 2 | 6 | 12
Total | 4 |  | 4 |  | 18

Written comments and recommendations concerning the proposed information collection should be sent within 30 days of this notice to: Desk Officer, Health Resources and Services Administration, Human Resources and Housing Branch, Office of Management and Budget, New Executive Office Building, Room 10235, Washington, DC 20503.

Dated: February 17, 2004.
Tina M. Cheatham,
Director, Division of Policy Review and Coordination.

[FR Doc. 04-4037 Filed 2-24-04; 8:45 am]

BILLING CODE 4165-15-P